DEPARTMENT OF EDUCATION

[Docket ID ED-2018-FSA-0065]

Privacy Act of 1974; Matching Program

AGENCY: Department of Education.

ACTION: Notice of a new matching program.

SUMMARY: This provides notice of the re-establishment of the matching program between the U.S. Department of Education (Department) and the Department of Veterans Affairs (VA), which sets forth the terms, safeguards, and procedures under which the VA will disclose data to the Department regarding Veterans whom VA has designated as (1) having a service-connected disability rating that is 100 percent disabling, or (2) being totally disabled based on an individual unemployability rating.

DATES: Submit your comments on the proposed matching program on or before November 9, 2018.

The matching program will go into effect 30 days after the publication of this notice, on November 9, 2018, unless comments have been received from interested members of the public requiring modification and republication of the notice. The matching program will continue for 18 months after it becomes effective and may be extended for an additional 12 months, if the respective Data Integrity Boards (DIBs) of the Department and VA determine that the conditions specified in 5 U.S.C. 552a(o)(2)(D) have been met.

ADDRESSES: Submit your comments through the Federal eRulemaking Portal or via postal mail, commercial delivery, or hand delivery. We will not accept comments submitted by fax or by email or those submitted after the comment period. To ensure that we do not receive duplicate copies, please submit your comments only once. In addition, please include the Docket ID at the top of your comments.

• Federal eRulemaking Portal: Go to www.regulations.gov to submit your comments electronically. Information on using Regulations.gov, including instructions for accessing agency documents, submitting comments, and viewing the docket, is available on the site under the “help” tab.

• Postal Mail, Commercial Delivery, or Hand Delivery: If you mail or deliver your comments about the matching program, address them to the Project Manager, Federal Student Aid, U.S. Department of Education, 830 First Street NE, Washington, DC 20202-5320.

Privacy Note: The Department's policy is to make all comments received from members of the public available for public viewing in their entirety on the Federal eRulemaking Portal at www.regulations.gov. Therefore, commenters should be careful to include in their comments only information that they wish to make publicly available.

FOR FURTHER INFORMATION CONTACT: Pam Eliadis, Service Director, System Operations & Aid Delivery Management, Federal Student Aid, U.S. Department of Education, 830 First Street NE, Washington, DC 20202-5320.

If you use a telecommunications device for the deaf (TDD) or a text telephone (TTY), you may call the Federal Relay Service (FRS), toll free, at 1-800-877-8339.

SUPPLEMENTARY INFORMATION: We provide this notice in accordance with Privacy Act of 1974, as amended (Privacy Act) (5 U.S.C. 552a); Office of Management and Budget (OMB) Final Guidance Interpreting the Provisions of Public Law 100-503, the Computer Matching and Privacy Protection Act of 1988, 54 FR 25818 (June 19, 1989); and OMB Circular No. A-108.

Participating Agencies: The U.S. Department of Education and the U.S Department of Veterans Affairs.

Authority for Conducting the Matching Program: The Department's legal authority to enter into this matching program is provided in sections 420N(c), 437(a), and 455(a)(1) of the Higher Education Act of 1965, as amended (HEA) (20 U.S.C. 1070g-2(c), 1087(a), and 1087e(a)(1)), and the regulations promulgated pursuant to those HEA sections (34 CFR 682.402(c), 685.213, and 686.42(b)), and subsection (a)(8) of the Privacy Act (5 U.S.C. 552a(a)(8)).

VA's legal authority to enter into this matching program and to disclose information as part of this matching program is described in subsection (a)(8) of the Privacy Act, 5 U.S.C. 552a(a)(8) and is in accordance with 5 U.S.C. 552a(b)(3).

Purpose(s): The matching program will assist the Department in its obligation to ensure that borrowers of loans under title IV of the HEA and individuals with Teacher Education Assistance for College and Higher Education (TEACH) Grant service obligations more efficiently and effectively apply for Total and Permanent Disability (TPD) discharge of their loans under title IV of the HEA and TEACH Grant service obligations. The Department will proactively send notices to inform individuals that they may be eligible for a TPD discharge, provided that the VA has designated them as having a service-connected disability rating that is 100 percent disabling, or being totally disabled based on an individual unemployability rating, as described in 38 CFR 3.4(b) and 38 CFR 3.340. Additionally, these individuals are eligible for a TPD discharge only where: (1) They owe a balance on any loans disbursed under the authority of title IV of the HEA, (2) they have had any loans under title IV of the HEA written off due to default, or (3) they are responsible for completing a service obligation in exchange for having received a TEACH Grant under the TEACH Grant Program. The Department's notices also will inform these individuals that the Department will accept VA data matched information in lieu of their submission of a VA Statement with their TPD loan discharge application, thereby making it easier for them to submit a TPD loan discharge application to the Department.

Categories of Individuals: The VA will disclose to the Department information in VA's records about Veterans who are in receipt of VA disability compensation benefits with a VA determination that they have a 100 percent disabling service-connected disability rating or that they are totally disabled based on an individual unemployability rating.

The Department will match this information on Veterans with its records on borrowers of loans under title IV of the HEA who owe balances on any loans or have had any loans written off due to default as well as on individuals who are responsible for completing a service obligation in exchange for having received a TEACH Grant under the TEACH Grant Program.

Categories of Records: The records to be used in the matching program are described as follows: VA will disclose to the Department, on a quarterly basis, the name (first, middle and last), date of birth (DOB), and Social Security number (SSN) of all Veterans who are in receipt of VA disability compensation benefits with a VA determination that they have a 100 percent disabling service-connected disability rating or that they are totally disabled based on an individual unemployability rating, along with the VA disability determination date for each Veteran.

The Department will match the data elements of name, DOB, and SSN received from VA with the Department's records on borrowers of loans under title IV of the HEA who owe balances on any loans or have had any loans written off due to default, as well as individuals who are responsible for completing a service obligation in exchange for having received a TEACH Grant under the TEACH Grant Program.

System(s) of Records: VA will use the system of records identified as “BIRLS—VA” (38VA21), first published at 49 FR 38095 (August 26, 1975), routine use 21, as added by 66 FR 30049 (June 4, 2001), which is the published system notice that added routine use 21 to this system of records notice. VA has determined that this system of records contains appropriate routine use disclosure authority and that the use is compatible with the purpose for which the information is collected.

The Department will match information on these Veterans with records in its system of records entitled “National Student Loan Data System (NSLDS)” (18-11-06), as last published in the Federal Register in full on June 28, 2013 (78 FR 38963) and last updated on April 2, 2014 (79 FR 18534).

Accessible Format: Individuals with disabilities can obtain this document in an accessible format (such as, braille, large print, audiotape, or compact disc) on request to Lisa Tessitore, Program Operations Specialist, Federal Student Aid, U.S. Department of Education, 830 First Street NE, Washington, DC 20202-5320. Telephone: (202) 377-3249.

Electronic Access to This Document: The official version of this document is the document published in the Federal Register. You may access the official edition of the Federal Register and the Code of Federal Regulations via the Federal Digital System at: www.gpo.gov/fdsys. At this site you can view this document, as well as all other documents of this Department published in the Federal Register, in text or Portable Document Format (PDF). To use PDF you must have Adobe Acrobat Reader, which is available free at the site.

You may also access documents of the Department published in the Federal Register by using the article search feature at: www.federalregister.gov. Specifically, through the advanced search feature at this site, you can limit your search to documents published by the Department.

Dated: October 4, 2018.
James F. Manning,
Acting Chief Operating Officer, Federal Student Aid.

[FR Doc. 2018-22024 Filed 10-9-18; 8:45 am]

BILLING CODE 4000-01-P